DEPARTMENT OF COMMERCE

National Oceanic and Atmospheric Administration

[I.D. 011400B]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings.

DATES: The meetings will be held the week of February 7, 2000. See SUPPLEMENTARY INFORMATION for specific dates and times.

ADDRESSES: All meetings will be held at the Hilton Hotel, 500 W. Third Avenue, Anchorage, AK.

Council address: North Pacific Fishery Management Council, 605 W. 4th Ave., Suite 306, Anchorage, AK 99501-2252.

FOR FURTHER INFORMATION CONTACT: Council staff, telephone: 907-271-2809.

SUPPLEMENTARY INFORMATION: The Scientific Committee and Advisory Panel will begin at 8:00 a.m. on Monday, February 7, continuing through Wednesday and Thursday, February 9 and 10, respectively.

The Council will meet jointly with the Alaska Board of Fisheries beginning at 9:00 a.m. on Tuesday, February 8, and begin their normal plenary session at 8:00 a.m. on Wednesday, February 9, continuing through Monday, February 14.

All meetings are open to the public except Executive Sessions which may be held during the week to discuss litigation and/or personnel matters.

Alaska Board of Fisheries/Council: The agenda for the Council's joint meeting with the Alaska Board of Fisheries will include the following subjects:

1. Preseason gear restrictions.

2. Crab management issues.

3. Management proposals of mutual concern.

4. Habitat areas of particular concern.

5. Halibut management issues.

Council: The agenda for the Council's plenary session will include the following issues. The Council may take appropriate action on any of the issues identified.

1. Reports

(a) Executive Director's Report

(b) NMFS Management Report

2. Halibut Charterboat Guideline Harvest Level/Management Measures: Final action.

3. Steller Sea Lions:

(a) Status report on implementation of Reasonable and Prudent Alternatives.

(b) Review regulatory amendment for Chiniak closures required for research on pollock fishery effects off Kodiak.

4. American Fisheries Act:

(a) Comment on proposed rule for 2000, and initiate regulatory action as appropriate.

(b) Analysis of Groundfish Processor Sideboards/Pollock Excessive Share: Initial review.

5. License Limitation Program: Pacific cod species/area endorsements: Initial review.

6. Groundfish Supplemental Environmental Impact Statement (SEIS): Status report.

7. Council/Board of Fisheries Issues:

(a) Summary of joint meeting.

(b) Comment on Board of Fisheries management proposals, including state water Pacific cod closure.

(c) Further direction to staff on stand-down measures and Crab Fishery Management Plan revisions.

8. Research Priorities: Review and approve.

9. Habitat Areas of Particular Concern: Initial review of analysis.

10. Staff Tasking: Review proposals for changes in management groundfish fisheries and the sablefish and halibut individual fishery quota program.

Advisory Meetings

Advisory Panel: With the exception of the reports listed under Item 1, and the Council/Board of Fisheries issues under Item 7, the agenda for the Advisory Panel will mirror that of the Council listed above.

Scientific and Statistical Committee: The Scientific and Statistical Committee will address the following items:

1. Alternatives and the analysis for the halibut charter harvest guideline level.

2. Progress on the Groundfish SEIS.

3. Groundfish processor sideboards and pollock excessive shares.

4. Steller sea lions.

5. Habitat areas of particular concern.

6. Research priorities.

Other committees and workgroups may hold impromptu meetings throughout the meeting week. Such meetings will be announced during regularly-scheduled meetings of the Council, Advisory Panel, and SSC, and will be posted at the hotel.

Although non-emergency issues not contained in this agenda may come before these groups for discussion, in accordance with the Magnuson-Stevens Fishery Conservation and Management Act, those issues may not be the subject of formal action during these meetings. Action will be restricted to those issues specifically identified in the agenda listed in this notice and any issues arising after publication of this notice that require emergency action under section 305(c) of the Magnuson-Stevens Act, provided the public has been notified of the Council's intent to take action to address the emergency.

Special Accommodations

These meetings are physically accessible to people with disabilities. Requests for sign language interpretation or other auxiliary aids should be directed to Helen Allen at 907-271-2809 at least 7 working days prior to the meeting date.

Dated: January 14, 2000.
Richard W. Surdi,
Acting Director, Office of Sustainable Fisheries, National Marine Fisheries Service.

[FR Doc. 00-1350 Filed 1-19-00; 8:45 am]

BILLING CODE 3510-22-F